DEPARTMENT OF HEALTH AND HUMAN SERVICES

Administration for Children and Families

Proposed Information Collection Activity; Comment Request

Proposed Projects

Title: Employment Retention and Advancement (ERA) Evaluation 42-Month Survey.

OMB No.: New Collection.

Description: The Employment Retention and Advancement (ERA) Evaluation is sponsored by the Administration for Children and Families (ACF) of the U.S. Department of Health and Human Services (HHS),¹ and involves the conduct of a multi-year evaluation that studies the net impact and cost-benefits of programs designed to help Temporary Assistance for Needy Families (TANF) recipients, former TANF recipients or families at risk of needing TANF benefits retain and advance in employment.² The ERA Evaluation involves 15 random assignment experiments in eight states, testing a diverse set of strategies designed to promote stable employment and/or career advancement for low-income people. The ERA Evaluation will generate rigorous data on the implementation, effects and costs of these alternative approaches. The data collected as part of the 42-month survey will be used for the following purposes:

¹ The U.S. Department of Labor has also provided funding to support the ERA project.

² From the Department of Health and Human Services RFP No.: 105-99-8100.

• To study ERA's long-term impacts on employment, earnings, participation, educational attainment and income;

• To gather data on a wider range of outcome measures than is available through welfare or Unemployment Insurance records in order to understand how individuals were affected by ERA; participation in employment and education activities; educational attainment; employment history; marriage, household composition and child care; housing; household income; household food insecurity; health coverage and status; and child outcomes;

• To build upon data collected as part of the earlier 12-month survey wave;

• To conduct non-experimental analyses, in addition to experimental analyses, and provide a descriptive picture of the circumstances of low-wage workers; and

• To obtain participation information important to the evaluation's cost-benefits component.

Respondents: The respondents of the 42-month survey are Temporary Assistance for Needy Families (TANF) applicants, current and former TANF recipients or individuals in families at risk of needing TANF benefits (working poor and hard-to-employ) who are in the research sample in a subset of the 15 programs participating in the ERA Evaluation. Survey participants will be administered a telephone survey approximately 42 months after the date they were enrolled in the research sample and randomly assigned to the treatment or control group. For those individuals who cannot be reached by phone, survey firm staff will attempt to contact them in person. A total of approximately 3,500 participants will complete the survey over a two-year period (1,750 respondents annually).

Annual Burden Estimates
Instrument | Number of respondents | Number of responses per respondent | Average burden hours per response | Total burden hours
42-Month Survey | 1,750 | 1 | 45 minutes (or .75 hours) | 1,312.5

Estimated Total Annual Burden Hours: 1,312.5.

In compliance with the requirements of section 3506(c)(2)(A) of the Paperwork Reduction Act of 1995, the Administration for Children and Families is soliciting public comment on the specific aspects of the information collection described above. Copies of the proposed collection of information can be obtained and comments may be forwarded by writing to the Administration for Children and Families, Office of Administration, Office of Information Services, 370 L'Enfant Promenade, SW., Washington, DC 20447, Attn: ACF Reports Clearance Officer. E-mail address: grjohnson@acf.hhs.gov. All requests should be identified by the title of the information collection.

The Department specifically requests comments on: (a) Whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Dated: January 18, 2005.
Robert Sargis,
Reports Clearance Officer.

[FR Doc. 05-1297 Filed 1-24-05; 8:45 am]

BILLING CODE 4184-01-M